DEPARTMENT OF TRANSPORTATION

Federal Railroad Administration

Notice of Funding Availability and Solicitation of Applications for Grants under the Railroad Rehabilitation and Repair Grant Program

AGENCY: Federal Railroad Administration (FRA), Department of Transportation (DOT).

ACTION: Notice of funding availability; solicitation of applications.

SUMMARY: Under this Notice, the FRA encourages interested State departments of transportation to submit applications for grants to repair and rehabilitate Class II and Class III railroad infrastructure damaged by hurricanes, floods, and other natural disasters in areas for which the President declared a major disaster after January 1, 2008, under Title IV of the Robert T. Stafford Disaster Relief and Emergency Assistance Act of 1974.

DATES: FRA will begin accepting grant applications 10 days after publication of this Notice of Funding Availability in the Federal Register. Applications may be submitted until January 16, 2009.

ADDRESSES: Applications for grants under this Program must be submitted electronically to “Grants.gov” at http://www.grants.gov. Grants.Gov allows organizations to find and apply electronically for competitive grant opportunities from all Federal grant-making agencies. Any State wishing to submit an application pursuant to this notice should immediately initiate the process of registering with Grants.Gov. Please confirm all Grants.gov submissions by sending an e-mail to paxrail@dot.gov.

For application materials that an applicant is unable to submit via Grants.Gov (such as oversized engineering drawings), applicants may submit an original and two (2) copies to the Federal Railroad Administration at the following address: Federal Railroad Administration, Attention: Alice Alexander, Office of Railroad Development, 1200 New Jersey Avenue, SE., Mail Stop 20,Washington, DC 20590.

Due to delays caused by enhanced screening of mail delivered via the U.S. Postal Service, applicants are encouraged to use other means to assure timely receipt of materials.

FOR FURTHER INFORMATION CONTACT: Alice Alexander, Office of Railroad Development, Federal Railroad Administration, 1200 New Jersey Avenue, SE., Mail Stop 20, Washington, DC 20590; Phone: (202) 493-6363; Fax: (202) 493-6333.

SUPPLEMENTARY INFORMATION: The Railroad Rehabilitation and Repair Grant Program (Catalog of Federal Domestic Assistance (CFDA) Program Number 20.314) will be supported with up to $20,000,000 of Federal funds provided to FRA as part of the Consolidated Security, Disaster Assistance, and Continuing Appropriations Act, 2009 (Pub. L. 110-329, September 30, 2008.) Of this $20,000,000, one-half of 1 percent of the funds, $100,000, may be retained by the FRA to fund oversight of the design and implementation of projects funded by this Program.

Funds provided under this Program may constitute no more than 80 percent of the total cost of a selected project, with the remaining cost funded from other non-Federal sources. FRA anticipates awarding grants to multiple eligible participants. Eligible projects include repairs and rehabilitation to Class II and Class III railroad infrastructure damaged by hurricanes, floods, and natural disasters that are located in counties that have been identified in a Disaster Declaration for Public Assistance issued by the President (http://www.fema.gov/news/disasters.fema#sev1) in calendar year 2008.¹

¹ Counties in thirty-two states are eligible to apply under this program. The states are: Alabama, Alaska, Arkansas, Colorado, Florida, Georgia, Hawaii, Idaho, Illinois, Indiana, Iowa, Kansas, Kentucky, Louisiana, Maine, Michigan, Minnesota, Mississippi, Missouri, Montana, Nebraska, Nevada, New Hampshire, New Mexico, North Carolina, Oklahoma, South Dakota, Tennessee, Texas, Vermont, West Virginia, and Wisconsin.

Class II and Class III railroad infrastructure eligible for repair and rehabilitation consists of railroad rights-of-way, bridges, signals and other infrastructure which are part of the general railroad system of transportation and primarily used by railroads to move freight traffic. Section 24312 (Labor Standards) of Title 49, United States Code, applies to grantees assisted under this Program. The grantees must exhaust all other Federal and State resources prior to seeking assistance under this Program. FRA anticipates that no further public notification will be made with respect to soliciting grant applications and selecting grantees under this Program.

Purpose: In 2008, the President made over sixty major disaster declarations which were related to hurricanes, floods, and other natural disasters. Funds provided under this Program will assist Class II and Class III railroads rebound from these disasters declared in 2008.²

² Inclusive dates for eligibility are January 1, 2008, through the publication date of this notice of funding availability.

Authority: The Consolidated Security, Disaster Assistance, and Continuing Appropriations Act, 2009 (Pub. L. 110-329, September 30, 2008).

Funding: The Consolidated Security, Disaster Assistance, and Continuing Appropriations Act, 2009 (the Act) provides $20,000,000, that remains available until expended, and directs the Secretary of Transportation to competitively award grants covering up to 80 percent of project costs, with the remaining project costs provided in non-Federal cash, equipment, or supplies. In addition, the Act allows the Secretary to retain up to one-half of 1 percent of the funds to fund the oversight by the Administrator of the Federal Railroad Administration of the design and implementation of projects funded by these grants. (The maximum that can be retained is $100,000.) The funding provided for these grants will be made available to the grantee(s) on a reimbursable basis. It is anticipated that the available funding could support projects proposed by multiple applicants. FRA may choose to award a grant or grants in any amount within the limit of the available funds.

Schedule for Rehabilitation and Repair Grant Program: FRA will begin accepting grant applications 10 days after publication of this Notice of Funding Availability in the Federal Register. All applications must be received by the January 16, 2009, deadline.

Eligible Participants: The department of transportation of any eligible State may apply for funding under this notice, provided that the applicant State has an eligible project and has exhausted all other Federal and State resources prior to seeking assistance under this Program.

Eligible Projects: To be eligible for funding under this Program, a project must include the rehabilitation and repair of Class II or Class III railroad infrastructure damaged by hurricanes, floods, and other natural disasters in counties for which the President declared a major disaster in calendar year 2008 under Title IV of the Robert T. Stafford Disaster Relief and Emergency Assistance Act of 1974. Rehabilitation or repairs must be made to rights-of-way, bridges, signals, and other infrastructure which are part of the general railroad system of transportation. In addition, the railroad infrastructure replaced or rehabilitated must be primarily used to move freight traffic.

Funding Period: Funds will be available under this program only for the reimbursement of costs incurred after a major disaster declaration in calendar year 2008 in the counties covered by such a declaration.

Selection Criteria: FRA will consider the following selection factors in evaluating applications for grants under this Program:

1. The inability of the Class II or Class III railroad to fund the project without Federal grant funding.

2. The effects on rail operations, specifically the movement of freight, of the proposed rehabilitation or repair.

3. The likelihood of continued operation of the railroad operations on the track that is proposed to be repaired or rehabilitated for more than three years after project work is complete.

Requirements for Grant Applications: The following points describe the minimum content which will be required in grant applications. These requirements may be satisfied through a narrative statement submitted by the applicant and supported by spreadsheet documents, tables, drawings, and other materials, as appropriate. Each grant application must:

1. Designate a point of contact for the applicant and provide his or her name, title, and contact information, including phone number, mailing address and e-mail address. The point of contact must be an employee of the applicant.

2. Include an explanation of why the project is an eligible project and a thorough discussion of how the project meets all of the selection criteria.

3. Identify all funds (including amounts) received from other Federal and/or State disaster relief programs that directly benefited the project(s) for which funds are being sought under this Program, or demonstrate that all such efforts at procuring such funding have failed or been exhausted. This demonstration should include a recitation of specific Federal and State disaster relief programs investigated by the applicant. Among the Federal programs which the applicant might investigate are those administered by the Federal Emergency Management Administration, the Small Business Administration, the Federal Highway Administration, and the U.S. Department of Agriculture.

4. Include a complete Standard Form 424, “Application for Federal Assistance,” Standard Form 424D, “Assurances—Construction Programs,” and the most recent audit performed in compliance with OMB Circular A-133, if available. Information on Circular A-133 can be found at http://www.whitehouse.gov/omb/circulars/a133/a133.html. Also include signed copies of FRA's Additional Assurances and Certifications, available at http://www.fra.dot.gov/downloads/admin/assurancesandcertifications.pdf.

5. Define the scope of work, budget and schedule for the proposed project. Describe the proposed project's physical location, mile-post limits, and include any drawings, plans, or schematics that have been prepared relating to the proposed project.

If funding requested under this Program is only going to support a portion of the overall rehabilitation and repair of the applicant's project, describe the complete project and specify which portion will involve Federal funding. In addition, FRA strongly encourages applicants to estimate complete project costs and the future financial viability of the Class II and Class III railroad on whose property the project is located.

6. The budget for the cost of the project should, to the extent possible, be separated into the following categories: (1) Administrative; (2) Engineering fees; (3) Demolition and removal; (4) Construction labor, supervision, and management; (5) Equipment; (6) Materials, by type (e.g., ties, rail, ballast, signals, and switches); (7) Contingencies; and (8) Inspection fees. Costs may be reimbursed as long as expenditures were incurred after the date of the natural disaster.

7. Describe the source and amount of non-Federal funds, broken down by cash, equipment, or supplies.

8. Describe proposed project implementation and an overview of project management arrangements.

9. For the railroad(s) operating on the infrastructure proposed to be rehabilitated or repaired, describe the frequency of service, axle-load limits, and estimated railroad gross ton miles per mile for the first full year after completion of the project.

10. Provide an overview of all work done to date to rehabilitate and repair damage caused by the natural disaster.

11. Describe the status or progress toward completing any environmental documentation or clearance for the proposed project under the National Environmental Policy Act, the National Historic Preservation Act, section 4(f) of the DOT Act, or other applicable federal or state environmental impact assessment laws. FRA's Procedures for Considering Environmental Impacts (64 Fed. Reg. 28545) (May 26, 1999) (http://www.fra.dot.gov/us/content/166) describe FRA's process for the assessment of environmental impacts and the preparation and processing of appropriate documents. For projects that may be categorically exempt from detailed environmental review, as discussed in FRA's Procedures, categorical exclusion worksheets are available at: http://www.fra.dot.gov/us/content/1606. Applicants are encouraged to contact FRA as early as possible in the environmental/historic preservation review process to discuss the environmental review.

Format: Excluding spreadsheets, drawings, and tables, the narrative statement for grant applications may not exceed twenty-five pages in length. With the exclusion of oversized engineering drawings (which may be submitted in hard copy to the FRA at the address indicated above), all application materials should be submitted as attachments through Grants.Gov. Spreadsheets consisting of budget or financial information should be submitted via Grants.Gov as Microsoft Excel (or compatible) documents.

Issued in Washington, DC, on November 3, 2008.
Mark E. Yachmetz,
Associate Administrator for Railroad Development.

[FR Doc. E8-26478 Filed 11-5-08; 8:45 am]

BILLING CODE 4910-06-P